NUCLEAR REGULATORY COMMISSION

[Docket No. 50-302]

Florida Power Corporation; Notice of Withdrawal of Application for Amendment to Facility Operating License

The U.S. Nuclear Regulatory Commission (the Commission) has granted the request of Florida Power Corporation (the licensee) to withdraw its August 14, 2002, application for proposed amendment to Facility Operating License No. DPR-72 for Crystal River, Unit No. 2, located in Citrus County, Florida.

The proposed amendment would have revised the Technical Specifications pertaining to two inoperable control complex chillers.

The Commission had previously issued a Notice of Consideration of Issuance of Amendment published in the Federal Register on September 6, 2002 (67 FR 57042). However, by letter dated October 24, 2002, the licensee withdrew the proposed change.

For further details with respect to this action, see the application for amendment dated August 14, 2002, and the licensee's letter dated October 24, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 12th day of November 2002.
For the Nuclear Regulatory Commission.
Ram Subbaratnam,
Project Manager, Section 2, Project Directorate II, Division of Licensing Project Management, Office of Nuclear Reactor Regulation.

[FR Doc. 02-29327 Filed 11-18-02; 8:45 am]

BILLING CODE 7590-01-P